ENVIRONMENTAL PROTECTION AGENCY

40 CFR Part 52

[EPA-R09-OAR-2008-0612; FRL-9972-81—Region 9]

Approval of California Air Plan Revisions, Yolo-Solano Air Quality Management District

AGENCY: Environmental Protection Agency (EPA).

ACTION: Proposed rule.

SUMMARY: The Environmental Protection Agency (EPA) is proposing to approve a revision to the Yolo-Solano Air Quality Management District (YSAQMD) portion of the California State Implementation Plan (SIP). This revision concerns the District's demonstration regarding Reasonably Available Control Technology (RACT) requirements for the 1997 8-hour ozone National Ambient Air Quality Standard (NAAQS). The EPA previously proposed to disapprove YSAQMD's 2006 RACT SIP submittal for the 1997 8-hour ozone NAAQS because we found that existing District rules implemented RACT for many but not all applicable sources. The YSAQMD has since addressed these deficiencies by adopting approvable rules that implement RACT and by adopting negative declarations where the District concluded it had no sources subject to RACT requirements. Therefore, we withdraw our previous proposed disapproval of YSAQMD's 2006 RACT SIP and now propose to approve it into the California SIP. The EPA is also proposing to approve YSAQMD's negative declarations into the SIP for the 1997 8-hour ozone NAAQS.

We are proposing to approve local SIP revisions under the Clean Air Act (CAA or Act). We are taking comments on this proposal and plan to follow with a final action.

DATES: Any comments must arrive by February 7, 2018.

ADDRESSES: Submit your comments, identified by Docket ID No. EPA-R09-OAR-2008-0612 at https://www.regulations.gov, or via email to Stanley Tong, at tong.stanley@epa.gov. For comments submitted at Regulations.gov, follow the online instructions for submitting comments. Once submitted, comments cannot be removed or edited from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Stanley Tong, EPA Region IX, (415) 947-4122, tong.stanley@epa.gov.

SUPPLEMENTARY INFORMATION: Throughout this document, “we,” “us” and “our” refer to the EPA.

Table of Contents

I. The State's Submittal

A. What documents did the State submit?

B. Are there other versions of these documents?

C. What is the purpose of the submitted documents?

II. The EPA's Evaluation and Proposed Action

A. How is the EPA evaluating the submitted documents?

B. Do the submitted documents meet the evaluation criteria?

C. Public Comment and Proposed Action

III. Statutory and Executive Order Reviews

I. The State's Submittal

A. What documents did the State submit?

On September 13, 2006, the YSAQMD adopted its “Reasonably Available Control Technology (RACT) State Implementation Plan (SIP)” (“2006 RACT SIP”) analysis to demonstrate its stationary sources are subject to RACT rules for the 1997 8-hour ozone standard. On January 31, 2007, the California Air Resources Board (CARB) submitted it to the EPA for approval as a revision to the California SIP. On July 31, 2007, the submittal was deemed complete by operation of law. On August 18, 2008, the EPA proposed action on YSAQMD's 2006 RACT SIP and stated that four deficiencies prevented full approval of the submittal.

On December 22, 2017, CARB transmitted the District's public draft version of negative declarations for four Control Techniques Guidelines (CTG) documents along with a request for parallel processing.¹ The District plans to adopt negative declarations for CTGs covering the Manufacture of Synthesized Pharmaceutical Products, Wood Furniture Manufacturing Operations, Air Oxidation Processes in Synthetic Organic Chemical Manufacturing Industry (SOCMI), and Reactor Processes and Distillation Operations in SOCMI.² The negative declarations are being adopted because the District states it does not have stationary sources subject to these CTGs. As noted in footnote 1 of this document, under our parallel processing procedure, the EPA proposes action on a public draft version of a SIP revision but will take final action only after the final version is adopted and submitted to the EPA for approval. In this instance, we are proposing action based on the public draft version of the negative declarations transmitted by CARB on December 22, 2017, and will not take final action until the final version of the negative declarations is adopted and submitted to the EPA. CARB's December 22, 2017 letter states that the YSAQMD Governing Board is scheduled to consider adoption of the negative declarations on January 10, 2018, and if it is approved, CARB will submit the final package to the EPA as a revision to the SIP.

¹ Under the EPA's “parallel processing” procedure, the EPA proposes rulemaking action concurrently with the state's proposed rulemaking. If the state's proposed rule is changed, the EPA will evaluate that subsequent change and may publish another notice of proposed rulemaking. If no significant change is made, the EPA will publish a final rulemaking on the rule after responding to any submitted comments. Final rulemaking action by the EPA will occur only after the rule has been fully adopted by California and submitted formally to the EPA for incorporation into the SIP. See 40 CFR part 51, appendix V.

² The Yolo-Solano AQMD's Governing Board is scheduled to consider adopting the four negative declarations on January 10, 2018. See public hearing notice available at http://www.ysaqmd.org/news/public-hearing-notice-negative-declarations-four-control-techniques-guidelines/.

B. Are there other versions of these documents?

There are no previous versions of the documents described above in the YSAQMD portion of the California SIP for the 1997 8-hour ozone NAAQS.

C. What is the purpose of the submitted documents?

Volatile Organic Compounds (VOCs) and Nitrogen Oxides (NOX) together produce ground-level ozone, smog and particulate matter, which harm human health and the environment. Section 110(a) of the CAA requires states to submit regulations that control VOC and NOX emissions. Sections 182(b)(2) and (f) require that SIPs for ozone nonattainment areas classified as Moderate or above implement RACT for any source covered by a CTG document and for any major source of VOCs or NOX. The YSAQMD is subject to this requirement because it regulates part of the Sacramento Metro ozone nonattainment area that was previously designated and classified as a Serious nonattainment area for the 1997 8-hour ozone NAAQS and is currently classified as a Severe-15 ozone nonattainment area for the 1997 8-hour ozone NAAQS.³ Therefore, the YSAQMD must, at a minimum, adopt RACT-level controls for all sources covered by a CTG document and for all major non-CTG sources of VOCs or NOX within the nonattainment area that it regulates. Any stationary source that emits or has the potential to emit at least 50 tons per year (tpy) of VOCs or NOX is a major stationary source in a Serious ozone nonattainment area (CAA section 182(c), (f), and 302(j)), and any stationary source that emits or has the potential to emit at least 25 tpy of VOCs or NOX is a major stationary source in a Severe ozone nonattainment area (CAA sections 182(d) and (f)). YSAQMD's 2006 RACT SIP reviewed for RACT major stationary sources that emit or had the potential to emit at least 25 tpy of VOC or NOX.⁴

³ 40 CFR 81.305; 75 FR 24409 (May 5, 2010). The YSAQMD regulates the Solano County and Yolo County portions of the Sacramento Metro ozone nonattainment area.

⁴ YSAQMD 2006 RACT SIP pages 6 and 9.

Section IV.G of the preamble to the EPA's final rule to implement the 1997 8-hour ozone NAAQS (70 FR 71612, November 29, 2005) discusses RACT requirements. It states in part that where a RACT SIP is required, states implementing the 8-hour standard generally must assure that RACT is met, either through a certification that previously required RACT controls still represent RACT for 8-hour implementation purposes or through a new RACT determination. The submitted documents provide YSAQMD's analyses of its compliance with the CAA section 182 RACT requirements for the 1997 8-hour ozone NAAQS. The EPA's technical support documents (TSDs) ⁵ have more information about the District's submissions and the EPA's evaluations thereof.

⁵ The docket for this proposed action (https://www.regulations.gov/docket?D=EPA-R09-OAR-2008-0612) contains two TSDs. One supported our August 18, 2008 proposed action (73 FR 48166) on the 2006 YSAQMD RACT SIP (2008 RACT SIP TSD). Although we are withdrawing our August 18, 2008 proposed disapproval, the 2008 RACT SIP TSD contains pertinent information and analysis that support our current action. The second TSD supports today's action, and is dated December 2017 (2017 RACT SIP TSD).

II. The EPA's Evaluation and Proposed Action

A. How is the EPA evaluating the submitted documents?

SIP rules must require RACT for each category of sources covered by a CTG document as well as each major source of VOCs or NOX in ozone nonattainment areas classified as Moderate or above (see CAA section 182(b)(2)). The YSAQMD regulates a Severe ozone nonattainment area (see 40 CFR 81.305) so the District's rules must implement RACT.

States should also submit for SIP approval negative declarations for those source categories for which they are not adopting CTG-based regulations (because they have no sources above the CTG recommended applicability threshold) regardless of whether such negative declarations were made for an earlier SIP.⁶ To do so, the submittal should provide reasonable assurance that no sources subject to the CTG requirements currently exist or are planned for the YSAQMD.

⁶ 57 FR 13498, 13512 (April 16, 1992).

The District's analysis must demonstrate that each major source of NOX or VOCs in the nonattainment area is covered by a RACT-level rule. In addition, for each CTG source category, the District must either demonstrate that a RACT-level rule is in place, or submit a negative declaration. Guidance and policy documents that we use to evaluate CAA section 182 RACT requirements include the following:

1. “Final Rule to Implement the 8-hour Ozone National Ambient Air Quality Standard—Phase 2”: (70 FR 71612; November 29, 2005).

2. “State Implementation Plans; General Preamble for the Implementation of Title I of the Clean Air Act Amendments of 1990,” 57 FR 13498 (April 16, 1992); 57 FR 18070 (April 28, 1992).

3. “Issues Relating to VOC Regulation Cutpoints, Deficiencies, and Deviations,” EPA, May 25, 1988 (the Bluebook, revised January 11, 1990).

4. “Guidance Document for Correcting Common VOC & Other Rule Deficiencies,” EPA Region 9, August 21, 2001 (the Little Bluebook).

5. “State Implementation Plans; Nitrogen Oxides Supplement to the General Preamble; Clean Air Act Amendments of 1990 Implementation of Title I; Proposed Rule,” (the NOX Supplement), 57 FR 55620, November 25, 1992.

6. Memorandum from William T. Harnett to Regional Air Division Directors, (May 18, 2006), “RACT Qs & As—Reasonably Available Control Technology (RACT) Questions and Answers.”

7. RACT SIPs, Letter dated March 9, 2006 from EPA Region IX (Andrew Steckel) to CARB (Kurt Karperos) describing Region IX's understanding of what constitutes a minimally acceptable RACT SIP.

8. RACT SIPs, Letter dated April 4, 2006 from EPA Region IX (Andrew Steckel) to CARB (Kurt Karperos) listing EPA's current CTGs, Alternative Control Techniques (ACTs), and other documents which may help to establish RACT.

With respect to major stationary sources, the Sacramento Metro ozone nonattainment area was classified as “Serious” nonattainment for the 19978-hour ozone NAAQS at the time that California submitted the YSAQMD 2006 RACT SIP to the EPA. The Sacramento Metro ozone nonattainment area was subsequently reclassified to “Severe” ozone nonattainment. YSAQMD's 2006 RACT SIP lists major stationary sources within its jurisdiction that emit or have the potential to emit at least 25 tpy of VOC or NOX—the threshold associated with major stationary sources in Severe ozone nonattainment areas.

B. Do the submitted documents meet the evaluation criteria?

Our August 18, 2008 proposed disapproval rulemaking and associated 2008 RACT SIP TSD provide an extensive evaluation of YSAQMD's 2006 RACT SIP and negative declarations. See 73 FR 48166. The August 18, 2008 proposal found that the District's submission generally met the CAA section 182 RACT requirements, with the exception of the following four deficiencies that prevented full approval of YSAQMD's 2006 RACT SIP:

1. YSAQMD identified three major non-CTG sources in the District that were not covered by RACT rules or SIP approved permits. Such rules or permits should be submitted to the EPA for approval.

Complete—YSAQMD adopted the following rules and the EPA approved them into the SIP:

Rule 2.41 Expandable Polystyrene Manufacturing Operations (adopted September 10, 2008); SIP approved September 8, 2011 (76 FR 55581).

Rule 2.42 Nitric Acid Production (adopted May 13, 2009); SIP approved on May 10, 2010 (75 FR 25778).

Rule 2.43 Biomass Boilers (adopted November 10, 2010); SIP approved July 2, 2012.

2. YSAQMD's pharmaceutical manufacturing rule may be less stringent than the CTG. Rule 2.35 Pharmaceutical Manufacturing Operations should be revised and submitted to the EPA for approval.

Parallel processing negative declaration—YSAQMD determined that emissions from pharmaceutical manufacturing operations are well below the CTG's applicability threshold. The primary process at its facility performing pharmaceutical manufacturing operations involves fermentation, which is exempted by a supporting document that helps implement the CTG. The guidance document indicates that the applicability threshold for the Manufacture of Synthesized Pharmaceutical Products CTG is 15 lb/day and that the CTG does not apply to fermentation processes.⁷ YSAQMD plans to adopt a negative declaration for this CTG in January 2018 and, as discussed below, has requested parallel processing of the negative declaration.

⁷ EPA-450/2-79-004, September 1979, Guidance to State and Local Agencies in Preparing Regulations to Control Volatile Organic Compounds from Ten Stationary Source Categories, page 61. Document available at https://www.epa.gov/nscep.

3. On May 14, 2008, YSAQMD amended the solvent cleaning provisions in several rules to address RACT requirements. These rules need to be submitted to, and approved by, the EPA.

Complete—The VOC limits for solvent cleaning operations were consolidated into Rule 2.31 Solvent Cleaning and Degreasing, and made more stringent. Rule 2.31 was approved into the SIP on April 28, 2015 (80 FR 23449). In general, we propose to conclude that the existing SIP-approved rules from which the solvent cleaning limits were consolidated, in concert with SIP-approved Rule 2.31, implement RACT for the 1997 8-hour ozone standard.

4. YSAQMD should submit a negative declaration for the Wood Furniture CTG or submit Rule 2.39 Wood Products Coatings Operations for SIP approval.

Parallel processing negative declaration—YSAQMD plans to adopt a negative declaration for this CTG in January 2018 and, as discussed below, has requested parallel processing of the negative declaration.

The EPA concludes that YSAQMD has effectively taken actions to address each of the four deficiencies identified in our August 18, 2008 proposal.

Where there are no existing sources covered by a particular CTG document, states may, in lieu of adopting RACT requirements for those sources, adopt negative declarations certifying that there are no such sources in the relevant ozone nonattainment area. YSAQMD plans to adopt, at its January 10, 2018 Board hearing, negative declarations for the following CTGs:

EPA-450/2-78-029 Control of Volatile Organic Emissions from Manufacture of Synthesized Pharmaceutical Products;

EPA-450/3-84-015 Control of Volatile Organic Compound Emissions from Air Oxidation Processes in Synthetic Organic Chemical Manufacturing Industry;

EPA-450/4-91-031 Control of Volatile Organic Compound Emissions from Reactor Processes and Distillation Operations in Synthetic Organic Chemical Manufacturing Industry;

EPA-453/R-96-007 Control of Volatile Organic Compound Emissions from Wood Furniture Manufacturing Operations.

The EPA has searched the CARB emissions inventory database and verified that there do not appear to be facilities in the YSAQMD that might be subject to these CTGs. We believe that these negative declarations are consistent with the relevant policy and guidance regarding RACT.

Our analysis of the remainder of YSAQMD's 2006 RACT SIP for the 1997 8-hour ozone NAAQS remains unchanged, and we propose to find that the District's RACT SIP submission is consistent with CAA requirements and relevant guidance regarding RACT, and SIP revisions.

Our August 18, 2008 proposed action also listed 13 CTG categories for which the YSAQMD states it has no sources in the District subject to the CTGs and no District rules covering those categories. These categories are repeated in Table 1 below. Table 2 lists the additional negative declarations that YSAQMD is adopting and for which it has requested parallel processing.

Table 1—Negative Declarations
CTG source category | CTG reference document
Aerospace | EPA-453/R-97-004—Aerospace Manufacturing and Rework Operations.
Ships | 61 FR 44050 Shipbuilding and Ship Repair.
Metal Coil Container and Closure | EPA-450/2-77-008—Surface Coating of Cans, Coils, Paper, Fabrics, Automobiles, and Light-Duty Trucks.
Magnetic Wire | EPA-450/2-77-033—Surface Coating of Insulation of Magnet Wire.
Natural Gas/Gasoline Processing Plants, Equipment Leaks | EPA-450/2-83-007—Equipment Leaks from Natural Gas/Gasoline Processing Plants.
Refineries | EPA-450/2-77-025—Refinery Vacuum Producing Systems, Wastewater Separators, and Process Unit Turnarounds.
| EPA-450/2-78-036—VOC Leaks from Petroleum Refinery Equipment.
Paper and Fabric | EPA-450/2-77-008—Surface Coating of Cans, Coils, Paper, Fabrics, Automobiles, and Light-Duty Trucks.
Dry Cleaning | EPA-450/3-82-009—Large Petroleum Dry Cleaners.
Rubber Tires | EPA-450/2-78-030—Manufacture of Pneumatic Rubber Tires.
Large Appliances, Surface Coating | EPA-450/2-77-034—Surface Coating of Large Appliances.
Wood Coating | EPA-450/2-78-032—Factory Surface of Flat Wood Paneling.
Synthetic Organic Chemical | EPA-450/3-83-006—Fugitive Emissions from Synthetic Organic Chemical Polymer and Resin Manufacturing Equipment.⁸
Polyester Resin | EPA-450/3-83-006—Fugitive Emissions from Synthetic Organic Chemical Polymer and Resin Manufacturing Equipment.
| EPA-450/3-83-008—Manufacture of High-Density Polyethylene, Polypropylene, and Polystyrene Resins.

Table 2—Negative Declarations—Parallel Processing
CTG source category | CTG reference document
Pharmaceutical Products | EPA-450/2-78-029 Control of Volatile Organic Emissions from Manufacture of Synthesized Pharmaceutical Products.
Synthetic Organic Chemical Manufacturing | EPA-450/3-84-015 Control of Volatile Organic Compound Emissions from Air Oxidation Processes in Synthetic Organic Chemical Manufacturing Industry.
| EPA-450/4-91-031 Control of Volatile Organic Compound Emissions from Reactor Processes and Distillation Operations in Synthetic Organic Chemical Manufacturing Industry.
Wood Furniture Coating | EPA-453/R-96-007 Control of Volatile Organic Compound Emissions from Wood Furniture Manufacturing Operations.

Our 2008 and 2017 RACT SIP TSDs and our August 18, 2008 proposal have more information on our evaluation of the submitted RACT SIP and negative declarations.

⁸ YSAQMD listed the Polymer and Resin Manufacturing Equipment CTG under the Synthetic Organic Chemical category and the Polyester Resin category. Accordingly, the 2006 RACT SIP submittal lacked the appropriate negative declarations for the SOCMI category. YSAQMD plans to adopt the correct negative declarations for the SOCMI category in January 2018 (see Table 2—Negative Declarations—Parallel Processing).

C. Public Comment and Proposed Action

As authorized in section 110(k)(3) of the Act, and based on the rationale discussed above, the EPA proposes to approve YSAQMD's 2006 RACT SIP and four negative declarations because they fulfill the RACT SIP requirements under CAA sections 182(b) and (f) and 40 CFR 51.912 for the 1997 8-hour ozone NAAQS. As noted above, our proposed action also relies upon our evaluation of the public draft version of the four negative declarations planned for adoption by the YSAQMD in January 2018 and we will not take final action until these negative declarations are adopted and submitted to us as a revision to the California SIP. If the negative declarations that we have evaluated were to be revised significantly prior to adoption and submittal, we would need to reconsider our proposed action accordingly. We are simultaneously withdrawing our previous proposal (73 FR 48166, August 18, 2008) to disapprove the YSAQMD 2006 RACT SIP because the YSAQMD has corrected the identified RACT deficiencies for the 1997 8-hour ozone standard and are now proposing full approval as meeting the relevant CAA requirements.⁹

⁹ Although we are withdrawing our August 18, 2008 proposed action, our TSD associated with that proposed action still contains pertinent information that summarizes our evaluation of YSAQMD's 2006 RACT SIP. On September 17, 2008, the YSAQMD submitted a comment letter outlining actions it took or planned to take to remedy the deficiencies identified in our August 18, 2008 proposed action. On March 16, 2009, YSAQMD transmitted a revised Final RACT SIP (draft) to the EPA. These documents are available in the docket for EPA-R09-OAR-2008-0612 under “comments”. See https://www.regulations.gov/docketBrowser?rpp=25&so=DESC&sb=commentDueDate&po=0&dct=PS&D=EPA-R09-OAR-2008-0612.

We will accept comments from the public on this proposal until February 7, 2018. If we take final action to approve the submitted documents, our final action will incorporate them into the federally enforceable SIP.

III. Statutory and Executive Order Reviews

Under the Clean Air Act, the Administrator is required to approve a SIP submission that complies with the provisions of the Act and applicable federal regulations. 42 U.S.C. 7410(k); 40 CFR 52.02(a). Thus, in reviewing SIP submissions, the EPA's role is to approve state choices, provided that they meet the criteria of the Clean Air Act. Accordingly, this proposed action merely proposes to approve state law as meeting federal requirements and does not impose additional requirements beyond those imposed by state law. For that reason, this proposed action:

• Is not a “significant regulatory action” subject to review by the Office of Management and Budget under Executive Orders 12866 (58 FR 51735, October 4, 1993) and 13563 (76 FR 3821, January 21, 2011);

• is not an Executive Order 13771 (82 FR 9339, February 2, 2017) regulatory action because SIP approvals are exempted under Executive Order 12866;

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Public Law 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide the EPA with the discretionary authority to address disproportionate human health or environmental effects with practical, appropriate, and legally permissible methods under Executive Order 12898 (59 FR 7629, February 16, 1994).

In addition, the SIP is not approved to apply on any Indian reservation land or in any other area where the EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Nitrogen dioxide, Ozone, Particulate matter, Reporting and recordkeeping requirements, Volatile organic compounds.

Authority: 42 U.S.C. 7401 et seq.

Dated: December 26, 2017.
Deborah Jordan,
Acting Regional Administrator, Region IX.

[FR Doc. 2018-00025 Filed 1-5-18; 8:45 am]

BILLING CODE 6560-50-P